DEPARTMENT OF THE TREASURY

Bureau of Engraving and Printing

Senior Executive Service Combined Performance Review Board (PRB)

AGENCY: Treasury Department, Bureau of Engraving and Printing.

ACTION: Notice of Members of Combined Performance Review Board (PRB).

SUMMARY: Pursuant to 5 U.S.C. 4314(c) (4), this notice announces the appointment of members of the Combined Performance Review Board (PRB) for the Bureau of Engraving and Printing (BEP), Financial Management Service (FMS), the Bureau of the Public Debt (BPD), the United States Mint, the Alcohol and Tobacco Tax and Trade Bureau (TTB) and the Financial Crimes Enforcement Network (FINCEN). The Board reviews the performance appraisals of career senior executives below the level of bureau head and principal deputy in the bureaus, except for executives below the Assistant Commissioner/Executive Director level in the Financial Management Service and Bureau of the Public Debt. The Board makes recommendations regarding proposed performance appraisals, ratings, bonuses, pay adjustments and other appropriate personnel actions.

Composition of Combined PRB: The Board shall consist of at least three voting members. In the case of an appraisal of a career appointee, more than half of the members shall consist of career appointees. The names and titles of the Combined PRB members are as follows:

Primary Members

Chuck Simpson, Assistant Commissioner, Information Resources, FMS.

Anita Shandor, Deputy Commissioner, BPD.

Pamela J. Gardiner, Deputy Director, BEP.

Andrew Brunhart, Deputy Director, United States Mint.

John J. Manfreda, Administrator, TTB.

William F. Baity, Deputy Director, FINCEN.

Alternate Members

Sheryl Morrow, Assistant Commissioner, Federal Finance, FMS.

Lori Santamorena, Executive Director, Government Securities Regulations Staff, BPD.

Scott Wilson, Associate Director (Management), BEP.

Marty Greiner, Chief Financial Officer, United States Mint.

Mary G. Ryan, Assistant Administrator, Field Operations, TTB.

Diane K. Wade, Associate Director, Management Programs Division, FINCEN.

DATES: Membership is effective on 09/30/2009.

FOR FURTHER INFORMATION CONTACT:

Karen Bickle, Chief, Office of Human Resources, Bureau of Engraving and Printing, 14th and C Streets, SW., Washington, DC 20228. Telephone Number: (202) 874-2781.

Larry Felix,
Director, Bureau of Engraving and Printing.

[FR Doc. E9-23154 Filed 9-24-09; 8:45 am]

BILLING CODE 4840-01-P